DEPARTMENT OF TRANSPORTATION

Federal Aviation Administration

14 CFR Part 39

[Docket No. 2000-NM-06-AD]

RIN 2120-AA64

Airworthiness Directives; Fokker Model F27 Mark 050, 100, 200, 300, 400, 500, 600, and 700 Series Airplanes; and Model F28 Mark 0070, 0100, 1000, 2000, 3000, and 4000 Series Airplanes

AGENCY: Federal Aviation Administration, DOT.

ACTION: Notice of proposed rulemaking (NPRM).

SUMMARY: This document proposes the adoption of a new airworthiness directive (AD) that is applicable to certain Fokker Model F27 Mark 050, 100, 200, 300, 400, 500, 600, and 700 series airplanes, and Model F28 Mark 0070, 0100, 1000, 2000, 3000, and 4000 series airplanes. This proposal would require a one-time functional test to verify correct installation of the shoulder harnesses of the pilot's and co-pilot's seats and, if necessary, replacement of the shoulder harness assembly with a new or serviceable shoulder harness assembly. This proposal is prompted by issuance of mandatory continuing airworthiness information by a foreign civil airworthiness authority. The actions specified by the proposed AD are intended to prevent failure of the shoulder harness, which could result in injury to the flight crew during turbulent flight conditions or during emergency landing conditions.

DATES: Comments must be received by March 20, 2000.

ADDRESSES: Submit comments in triplicate to the Federal Aviation Administration (FAA), Transport Airplane Directorate, ANM-114, Attention: Rules Docket No. 2000-NM-06-AD, 1601 Lind Avenue, SW., Renton, Washington 98055-4056. Comments may be inspected at this location between 9:00 a.m. and 3:00 p.m., Monday through Friday, except Federal holidays.

The service information referenced in the proposed rule may be obtained from Fokker Services B.V., P.O. Box 231, 2150 AE Nieuw-Vennep, the Netherlands. This information may be examined at the FAA, Transport Airplane Directorate, 1601 Lind Avenue, SW., Renton, Washington.

FOR FURTHER INFORMATION CONTACT: Norman B. Martenson, Manager, International Branch, ANM-116, Transport Airplane Directorate, 1601 Lind Avenue, SW., Renton, Washington 98055-4056; telephone (425) 227-2110; fax (425) 227-1149.

SUPPLEMENTARY INFORMATION:

Comments Invited

Interested persons are invited to participate in the making of the proposed rule by submitting such written data, views, or arguments as they may desire. Communications shall identify the Rules Docket number and be submitted in triplicate to the address specified above. All communications received on or before the closing date for comments, specified above, will be considered before taking action on the proposed rule. The proposals contained in this notice may be changed in light of the comments received.

Comments are specifically invited on the overall regulatory, economic, environmental, and energy aspects of the proposed rule. All comments submitted will be available, both before and after the closing date for comments, in the Rules Docket for examination by interested persons. A report summarizing each FAA-public contact concerned with the substance of this proposal will be filed in the Rules Docket.

Commenters wishing the FAA to acknowledge receipt of their comments submitted in response to this notice must submit a self-addressed, stamped postcard on which the following statement is made: “Comments to Docket Number 2000-NM-06-AD.” The postcard will be date stamped and returned to the commenter.

Availability of NPRMs

Any person may obtain a copy of this NPRM by submitting a request to the FAA, Transport Airplane Directorate, ANM-114, Attention: Rules Docket No. 2000-NM-06-AD, 1601 Lind Avenue, SW., Renton, Washington 98055-4056.

Discussion

The Rijksluchtvaartdienst (RLD), which is the airworthiness authority for the Netherlands, notified the FAA that an unsafe condition may exist on certain Fokker Model F27 Mark 050, 100, 200, 300, 400, 500, 600, and 700 series airplanes, and Model F28 Mark 0070, 0100, 1000, 2000, 3000, and 4000 series airplanes. The RLD advises that it has received a report indicating that, while bending forward during cockpit preparation, the pilot pulled the shoulder harness completely out of the reel mechanism. The co-pilot's shoulder harness was found in a similar condition. This incident occurred four flights after the affected shoulder harnesses were replaced during maintenance. Investigation revealed that the shoulder harnesses had been incorrectly attached into the reel mechanism. Such incorrect attachment, if not corrected, could result in injury to the flight crew during turbulent flight conditions or during emergency landing conditions.

Explanation of Relevant Service Information

The manufacturer has issued Fokker Service Bulletins SBF50-25-051 (for Model F27 Mark 050 series airplanes); SBF27/25-65 (for Model F27 Mark 100, 200, 300, 400, 500, 600, and 700 series airplanes); SBF100-25-088 (for Model F28 0070 and 0100 series airplanes); and SBF28/25-103 (for Model F.28 1000, 2000, 3000, and 4000 series airplanes); each dated October 14, 1999. These service bulletins describe procedures for a functional test (also referred to as an inspection and a functional check) to verify correct installation of the shoulder harnesses of the pilot's and co-pilot's seats, and replacement of an incorrectly installed shoulder harness assembly with a new or serviceable shoulder harness assembly. The RLD classified these service bulletins as mandatory and issued Dutch airworthiness directive 1999-139 (A), dated October 29, 1999, in order to assure the continued airworthiness of these airplanes in the Netherlands.

FAA's Conclusions

These airplane models are manufactured in the Netherlands and are type certificated for operation in the United States under the provisions of § 21.29 of the Federal Aviation Regulations (14 CFR 21.29) and the applicable bilateral airworthiness agreement. Pursuant to this bilateral airworthiness agreement, the RLD has kept the FAA informed of the situation described above. The FAA has examined the findings of the RLD, reviewed all available information, and determined that AD action is necessary for products of this type design that are certificated for operation in the United States.

Explanation of Requirements of Proposed Rule

Since an unsafe condition has been identified that is likely to exist or develop on other airplanes of the same type design registered in the United States, the proposed AD would require a one-time functional test to verify correct installation of the shoulder harnesses of the pilot's and co-pilot's seats and replacement of an incorrectly installed shoulder harness assembly with a new or serviceable shoulder harness assembly. The actions would be required to be accomplished in accordance with the applicable service bulletin described previously.

Cost Impact

The FAA estimates that 191 airplanes of U.S. registry would be affected by this proposed AD, that it would take approximately 1 work hour per airplane to accomplish the proposed functional test, and that the average labor rate is $60 per work hour. Based on these figures, the cost impact of the functional test proposed by this AD on U.S. operators is estimated to be $11,460, or $60 per airplane.

The cost impact figure discussed above is based on assumptions that no operator has yet accomplished any of the proposed requirements of this AD action, and that no operator would accomplish those actions in the future if this AD were not adopted.

Regulatory Impact

The regulations proposed herein would not have a substantial direct effect on the States, on the relationship between the national Government and the States, or on the distribution of power and responsibilities among the various levels of government. Therefore, it is determined that this proposal would not have federalism implications under Executive Order 13132.

For the reasons discussed above, I certify that this proposed regulation (1) is not a “significant regulatory action” under Executive Order 12866; (2) is not a “significant rule” under the DOT Regulatory Policies and Procedures (44 FR 11034, February 26, 1979); and (3) if promulgated, will not have a significant economic impact, positive or negative, on a substantial number of small entities under the criteria of the Regulatory Flexibility Act. A copy of the draft regulatory evaluation prepared for this action is contained in the Rules Docket. A copy of it may be obtained by contacting the Rules Docket at the location provided under the caption ADDRESSES.

List of Subjects in 14 CFR Part 39

Air transportation, Aircraft, Aviation safety, Safety.

The Proposed Amendment

Accordingly, pursuant to the authority delegated to me by the Administrator, the Federal Aviation Administration proposes to amend part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

Fokker Services B.V.: Docket 2000-NM-06-AD.

Applicability: Model F27 Mark 050, 100, 200, 300, 400, 500, 600, and 700 series airplanes; and Model F28 Mark 0070, 0100, 1000, 2000, 3000, and 4000 series airplanes; certificated in any category; on which any Pacific Scientific Model 0108900 series flight crew shoulder harness assembly is installed.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent failure of the shoulder harness, which could result in injury to the flight crew during turbulent flight conditions or during emergency landing conditions, accomplish the following:

Functional Test

(a) Within 6 months after the effective date of this AD, perform a one-time functional test to verify correct installation of the shoulder harnesses of the pilot's and co-pilot's seats, in accordance with paragraph (a)(1), (a)(2), (a)(3), or (a)(4) of this AD, as applicable. If any shoulder harness is incorrectly installed, prior to further flight, replace the shoulder harness assembly with a new or serviceable shoulder harness assembly, in accordance with paragraph (a)(1), (a)(2), (a)(3), or (a)(4) of this AD, as applicable.

(1) For Model F27 Mark 050 series airplanes: Accomplish the actions in accordance with Fokker Service Bulletin SBF50-25-051, dated October 14, 1999.

(2) For Model F27 Mark 100, 200, 300, 400, 500, 600, and 700 series airplanes: Accomplish the actions in accordance with Fokker Service Bulletin SBF27/25-65, dated October 14, 1999.

(3) For Model F28 Mark 0070 and 0100 series airplanes: Accomplish the actions in accordance with Fokker Service Bulletin SBF100-25-088, dated October 14, 1999.

(4) For Model F28 Mark 1000, 2000, 3000, and 4000 series airplanes: Accomplish the actions in accordance with Fokker Service Bulletin SBF28/25-103, dated October 14, 1999.

Alternative Methods of Compliance

(b) An alternative method of compliance or adjustment of the compliance time that provides an acceptable level of safety may be used if approved by the Manager, International Branch, ANM-116, FAA, Transport Airplane Directorate. Operators shall submit their requests through an appropriate FAA Principal Maintenance Inspector, who may add comments and then send it to the Manager, International Branch, ANM-116.

Note 2: Information concerning the existence of approved alternative methods of compliance with this AD, if any, may be obtained from the International Branch, ANM-116.

Special Flight Permits

(c) Special flight permits may be issued in accordance with §§ 21.197 and 21.199 of the Federal Aviation Regulations (14 CFR 21.197 and 21.199) to operate the airplane to a location where the requirements of this AD can be accomplished.

Note 3: The subject of this AD is addressed in Dutch airworthiness directive BLA 1999-139 (A), dated October 29, 1999.

Issued in Renton, Washington, on February 11, 2000.
Donald L. Riggin,
Acting Manager, Transport Airplane Directorate, Aircraft Certification Service.

[FR Doc. 00-3798 Filed 2-16-00; 8:45 am]

BILLING CODE 4910-13-U